DEPARTMENT OF THE INTERIOR

Bureau of Indian Affairs

Bureau of Indian Education, Adult Education Annual Report Form, Submission to the Office of Management and Budget

AGENCY: Bureau of Indian Affairs, Interior.

ACTION: Notice of Submission of Information Collections.

SUMMARY: This notice announces that the Information Collection Request for Adult Education Annual Report Form OMB #1076-0120 is submitted to the Office of Management and Budget (OMB) for review, as required by the Paperwork Reduction Act of 1995. The Bureau of Indian Education is soliciting public comments on the subject proposal.

DATES: Written comments must be submitted on or before July 30, 2008.

ADDRESSES: Comments are to be mailed to the Desk Officer for the Department of the Interior at the Office of Management and Budget, by facsimile at (202)-395-6566 or you may send an e-mail to: OIRA_DOCKET@omb.eop.gov.

Copies of any comments should be submitted to Kevin Skenandore, Acting Director, Bureau of Indian Education, Department of the Interior, 1849 C Street, NW., MS 3609 MIB, Washington, DC 20240, or hand delivered to room 3610 at the above address.

FOR FURTHER INFORMATION CONTACT: Keith Neves, Bureau of Indian Education, Department of the Interior, 1849 C Street, NW., MS 3609 MIB, Washington, DC 20240 or at 202-208-3601.

SUPPLEMENTARY INFORMATION:

I. Abstract

The information collection is necessary to assess the need for adult education programs in accordance with 25 CFR part 46, subpart A, sections 46.20 “Program Requirements” and 46.30 “Records and Reporting Requirements of the Adult Education Program.” The Adult Education Program regulations under 25 CFR part 46, subpart 46 contain the program requirements which govern the program. Information collected from the contractors will be used for administrative planning, setting long and short-term goals, and analyzing and monitoring the use of funds.

II. Request for Comments

The Department of the Interior invites comments on:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information; to search data sources; to complete and review the collection of information; and to transmit or otherwise disclose the information.

It is our policy to make all comments available to the public for review at the location listed in the ADDRESSES section, room 3610, during the hours of 8 a.m. to 5 p.m., Eastern Time, Monday through Friday except for legal holidays. Before including your address, telephone number, e-mail address or other personally identifiable information, be advised that your entire comment including your personally identifiable information may be made public at any time. While you may request that we withhold your personally identifiable information, we cannot guarantee that we will be able to do so. We do not consider anonymous comments. All comments from representatives of businesses or organizations will be made public in their entirety. We may withhold comments from review for other reasons.

Comments submitted in response to this notice will become a matter of public record.

An agency may not conduct or sponsor, and a person is not required to respond to a collection of information, unless it displays a currently valid Office of Management and Budget control number.

III. Data

Title of the Collection of Information: Bureau of Indian Education, Adult Education Program Annual Report Form. OMB Number: 1076-0120; Expiration Date: June 30, 2008.

Type of Review: Renewal of a currently approved information collection.

Summary of the Collection of Information: The collection of information provides pertinent data concerning the adult education programs.

Description of the Need for the Information and Proposed Use of the Information: Submission of this information is necessary to assess the need for adult education programs. The information is needed for the utilization and management of program resources to provide education opportunities for adult American Indians and Alaska Natives to complete high school requirements and to gain new skills and knowledge for individual student self enhancement. The information collected with the annual report will be used by the Bureau of Indian Education or tribally controlled programs for fiscal accountability and appropriate direct services documentation. The results of the data are used for administrative planning.

Affected Entities: Tribal adult education contractors.

Estimated Number of Respondents: 70 Respondents are Tribal adult education program administrators.

Estimated Time per Response: 4 hours.

Proposed Frequency of Responses: Annually.

Burden: The estimate of total annual reporting and recordkeeping burden that will result from the collection of information: Reporting 4 hours per response × 70 respondents = 280 hours. Also included are minimal support services estimated at $200.00 per year.

Christine Cho,
Acting Chief Information Officer—Indian Affairs.

[FR Doc. E8-14904 Filed 6-27-08; 8:45 am]

BILLING CODE 4310-6W-P